NUCLEAR REGULATORY COMMISSION

[Docket Nos. 50-424 and 50-425]

Southern Nuclear Operating Company, Inc.; Notice of Receipt and Availability of Application for Renewal of Vogtle Electric Generating Plant, Units 1 and 2 Facility Operating Licenses Nos. NPF-68 and NPF-81 for an Additional 20-Year Period

The U.S. Nuclear Regulatory Commission (NRC or Commission) has received an application dated June 27, 2007, from Southern Nuclear Operating Company, Inc., filed pursuant to Section 103 of the Atomic Energy Act of 1954, as amended, and Title 10 of the Code of Federal Regulations Part 54 (10 CFR Part 54), to renew the operating licenses for the Vogtle Electric Generating Plant (VEGP), Units 1 and 2. Renewal of the licenses would authorize the applicant to operate Unit 1 for an additional 20-year period beyond the period specified in its current operating license. For VEGP, Unit 2, the renewed license would authorize the applicant to operate for an additional 20 years beyond the period specified in the current operating license or 40 years from the date of issuance of the new license, whichever occurs first. The current operating license for VEGP, Unit 1, (NPF-68), expires on January 16, 2027. VEGP, Unit 1, is a Pressurized Water Reactor designed by Westinghouse. The current operating license for VEGP, Unit 2, (NPF-81), expires on February 9, 2029. VEGP, Unit 2, is a Pressurized Water Reactor designed by Westinghouse. Both units are located near Waynesboro, GA. The acceptability of the tendered application for docketing, and other matters including an opportunity to request a hearing, will be the subject of subsequent Federal Register notices.

Copies of the application are available to the public at the Commission's Public Document Room (PDR), located at One White Flint North, 11555 Rockville Pike, Rockville, Maryland 20852 or through the internet from the NRC's Agencywide Documents Access and Management System (ADAMS) Public Electronic Reading Room under Accession Number ML071840360. The ADAMS Public Electronic Reading Room is accessible from the NRC Web site at http://www.nrc.gov/reading-rm/adams.html. In addition, the application is available at http://www.nrc.gov/reactors/operating/licensing/renewal/applications.html. Persons who do not have access to the internet or who encounter problems in accessing the documents located in ADAMS should contact the NRC's PDR reference staff at 1-800-397-4209, extension 4737, or by e-mail to pdr@nrc.gov.

A copy of the license renewal application for the VEGP, Units 1 and 2, is also available to local residents near the site at the Burke County Library, 130 Highway 24 South, Waynesboro, GA 30830.

Dated at Rockville, Maryland, this 26th day of July, 2007.
For the Nuclear Regulatory Commission.
Pao-Tsin Kuo,
Director, Division of License Renewal, Office of Nuclear Reactor Regulation.

[FR Doc. E7-15117 Filed 8-2-07; 8:45 am]

BILLING CODE 7590-01-P